COMMITTEE FOR THE IMPLEMENTATION OF TEXTILE AGREEMENTS

Announcement of Import Limits for Certain Cotton, Wool, Man-Made Fiber, Silk Blend and Other Vegetable Fiber Textiles and Textile Products Produced or Manufactured in Taiwan; Correction

April 24, 2003.

In the letter to the Commissioner of Customs published in the Federal Register on November 12, 2002 (67 FR 68577), on page 68578, in the table listing import restraint limits, Categories 440, 442, 443, and 444. were inadvertently omitted from the list of categories covered under Group II. A letter has been sent to the Commissioner, Bureau of Customs and Border Protection to add these categories to the categories listed under Group II.

James C. Leonard III,
Chairman, Committee for the Implementation of Textile Agreements.

[FR Doc. 03-10538 Filed 4-28-03; 8:45 am]

BILLING CODE 3510-DR-S